INTERNATIONAL TRADE COMMISSION

[USITC SE-02-013]

Sunshine Act Meeting

Agency Holding the Meeting: International Trade Commission.

Time and Date: May 10, 2002 at 11:00 a.m.

Place: Room 101, 500 E Street SW., Washington, DC 20436. Telephone: (202) 205-2000.

Status: Open to the public.

Matters To Be Considered:

1. Agenda for future meeting: none

2. Minutes.

3. Ratification List.

4. Inv. Nos. 701-TA-428 and 731-TA-992-994 and 996-1005 (Preliminary) (Oil Country Tubular Goods from Austria, Brazil, China, France, Germany, India, Indonesia, Romania, South Africa, Spain, Turkey, Ukraine, and Venezuela)—briefing and vote. (The Commission is currently scheduled to transmit its determination to the Secretary of Commerce on or before May 13, 2002; Commissioners' opinions are currently scheduled to be transmitted to the Secretary of Commerce on or before May 20, 2002.)

5. Outstanding action jackets: none.

In accordance with Commission policy, subject matter listed above, not disposed of at the scheduled meeting, may be carried over to the agenda of the following meeting.

Issued: April 29, 2002.
By order of the Commission.
Marilyn R. Abbott,
Secretary.

[FR Doc. 02-11029 Filed 4-30-02; 2:26 pm]

BILLING CODE 7020-02-P